FEDERAL RESERVE SYSTEM

Formations of, Acquisitions by, and Mergers of Bank Holding Companies; Correction

This notice corrects a notice (FR Doc. 03-25676) published on page 58683 of the issue for Friday, October 10, 2003.

Under the Federal Reserve Bank of Dallas heading, the entry for Tradition Bancshares, Inc., Houston, Texas, is revised to read as follows:

A. Federal Reserve Bank of Dallas (W. Arthur Tribble, Vice President) 2200 North Pearl Street, Dallas, Texas 75201-2272:

1. Tradition Bancshares, Inc., Houston, Texas; to acquire 30.89 percent of the voting shares of Katy Bank, N.A., Katy, Texas.

Comments on this application must be received by November 3, 2003.

Board of Governors of the Federal Reserve System, October 15, 2003.
Robert deV. Frierson,
Deputy Secretary of the Board.

[FR Doc. 03-26460 Filed 10-20-03; 8:45 am]

BILLING CODE 6210-01-S